ENVIRONMENTAL PROTECTION AGENCY

[FRL-7798-9]

Office of Research and Development; Ambient Air Monitoring Reference and Equivalent Methods: Designation of One New Reference Method for NO2 and Three New Equivalent Methods for PM2.5

AGENCY: Environmental Protection Agency.

ACTION: Notice of the designation of one new reference method and three new equivalent methods for monitoring ambient air quality.

SUMMARY: Notice is hereby given that the Environmental Protection Agency (EPA) has designated, in accordance with 40 CFR part 53, one new reference method for measuring concentrations of NO2, and three new equivalent methods for measuring concentrations of PM2.5 in ambient air.

FOR FURTHER INFORMATION CONTACT: Elizabeth Hunike, Human Exposure and Atmospheric Sciences Division (MD-D205-03), National Exposure Research Laboratory, U.S. EPA, Research Triangle Park, North Carolina 27711. Phone: (919) 541-3737, e-mail: Hunike.Elizabeth@epa.gov.

SUPPLEMENTARY INFORMATION: In accordance with regulations at 40 CFR part 53, the EPA examines various methods for monitoring the concentrations of those ambient air pollutants for which the EPA has established National Ambient Air Quality Standards (NAAQSs), as set forth in 40 CFR part 50. Monitoring methods that are determined to meet specific requirements for adequacy are designated as either reference methods or equivalent methods (as applicable), thereby permitting their use under 40 CFR part 58 by States and other agencies for determining attainment of the NAAQSs. The EPA hereby announces the designation of one new reference method for measuring concentrations of NO2 in ambient air and three new equivalent methods for measuring concentrations of particulate matter in ambient air. These designations are made under the provisions of 40 CFR part 53, as amended on July 18, 1997 (62 FR 38764).

The new reference method for NO2 is an automated method (analyzer) that utilizes the measurement principle (gas phase chemiluminescence) and calibration procedure specified in appendix F of 40 CFR part 50. The newly designated method is described as follows:

RFNA-0804-152, “SIR S.A. Model S-5012 Chemiluminescent Nitrogen Oxides Analyzer,” operated with a full scale range of 0-500 ppb, at any temperature in the range of 20 °C to 30 °C, with the integration time set to 1 minute, with the “initial zero” disabled, and with a specified Teflon particulate filter installed in the sample inlet filter holder.

An application on behalf of the SIR S.A. Model S-5012 analyzer was received on January 12, 2004. The method is available commercially from Sistemas Instalaciones y Redes, S.A. (SIR S.A.), Avenida de la Industria, 3, 28760 Tres Cantos (Madrid), Spain.

The three new equivalent methods for PM2.5 are manual monitoring methods that are based on particular, commercially available PM2.5 samplers. The methods are identified as Class II equivalent methods, which means that they are based on an integrated, filtered air sample with gravimetric analysis, but with substantial deviation from the specifications for reference methods set forth in appendix L of 40 CFR part 50. In this case, each of the three new equivalent method samplers is very similar to a corresponding sampler that has been previously designated by the EPA as a reference method sampler for PM2.5 (or PM10). However, these newly designated equivalent method samplers use a specific, very sharp cut cyclone (VSCC™) as the principle particle size separation device rather than the WINS impactor used in the corresponding reference method sampler. The newly designated Class II equivalent methods are identified as follows:

EQPM-0804-153, “Thermo Electron Corporation Model RAAS2.5-100 FEM” PM2.5 Ambient Air Sampler, configured with a BGI VSCC” Very Sharp Cut Cyclone particle size separator and operated with software version 06.0B.00 configured for “Single 2.5” operation, for 24-hour continuous sample periods at a flow rate of 16.67 liters/minute, in accordance with the Model RAAS2.5-100 FEM Operator's Manual and VSCC” supplemental manual, and in accordance with the requirements and sample collection filters specified in 40 CFR part 50, appendix L.

EQPM-0804-154 “Thermo Electron Corporation Model RAAS2.5-200 FEM” PM2.5 Ambient Air Sampler, configured with a BGI VSCC” Very Sharp Cut Cyclone particle size separator and operated with software version 06.0B.00, for 24-hour continuous sample periods at a flow rate of 16.67 liters/minute, in accordance with the Model RAAS2.5-200 FEM Operator's Manual and VSCC™ supplemental manual, and in accordance with the requirements and sample collection filters specified in 40 CFR part 50, appendix L.

EQPM-0804-155 “Thermo Electron Corporation Model RAAS2.5-300 FEM” PM2.5 Sequential Ambient Air Sampler, configured with a BGI VSCC™ Very Sharp Cut Cyclone particle size separator and operated with software version 06.0B.00 configured for “Multi 2.5” operation, for 24-hour continuous sample periods at a flow rate of 16.67 liters/minute, in accordance with the Model RAAS2.5-300 FEM Operator's Manual and VSCC™ supplemental manual, and in accordance with the requirements and sample collection filters specified in 40 CFR part 50, appendix L.

An application for equivalent method determinations for these methods was received by the EPA on March 24, 2004. The samplers are available commercially from Thermo Electron Corporation, 27 Forge Parkway, Franklin, Massachusetts 02038.

A test analyzer or test samplers representative of each of these methods have been tested by the corresponding applicants in accordance with the applicable test procedures specified in 40 CFR part 53 (as amended on July 18, 1997). After reviewing the results of those tests and other information submitted by the applicants, the EPA has determined, in accordance with part 53, that each of these methods should be designated as reference or equivalent methods, as indicated. The information submitted by the applicants will be kept on file, either at the EPA's National Exposure Research Laboratory, Research Triangle Park, North Carolina 27711 or in an approved achieve storage facility, and will be available for inspection (with advance notice) to the extent consistent with 40 CFR part 2 (EPA's regulations implementing the Freedom of Information Act).

As a designated reference or equivalent method, each of these methods is acceptable for use by states and other air monitoring agencies under the requirements of 40 CFR part 58, Ambient Air Quality Surveillance. For such purposes, the method must be used in strict accordance with the operation or instruction manual associated with the method and subject to any specifications and limitations (e.g., measurement range, configuration, or sample period) specified in the applicable designation method description (see the identification of the methods above). Use of the method should also be in general accordance with the guidance and recommendations of applicable sections of the “Quality Assurance Handbook for Air Pollution Measurement Systems, Volume II: Part 1,” EPA/454/R-98/004, and with the Quality Assurance Guidance Document 2.12 (available at http://www.epa.gov/ttn/amtic/pmqainf.html). Vendor modifications of a designated reference or equivalent method used for purposes of part 58 are permitted only with prior approval of the EPA, as provided in part 53. Provisions concerning modification of such methods by users are specified under section 2.8 of appendix C to 40 CFR part 58 (Modifications of Methods by Users).

In general, a reference or equivalent method designation applies to any sampler or analyzer which is identical to the sampler or analyzer described in the application for designation. In some cases, similar samplers or analyzers manufactured prior to the designation may be upgraded or converted (e.g., by minor modification or by substitution of the approved operation or instruction manual) so as to be identical to the designated method and thus achieve designated status. The manufacturer should be consulted to determine the feasibility of such changes.

In the particular case of the three new PM2.5 Class II equivalent methods, a corresponding PM2.5 (or PM10) reference method sampler configuration may be converted to the equivalent method configuration by replacement of the WINS impactor (or the PM10 extender tube for the PM10 version) with the BGI VSCC™ device specified in the equivalent method description. The VSCC™ device should be purchased from the sampler manufacturer, who will also furnish installation, conversion, operation, and maintenance instructions for the VSCC™ as well as a new equivalent method identification label to be installed on the sampler. If the conversion is to be permanent, the original designated reference method label should be removed from the sampler and replaced with the new designated equivalent method label. In a case where a converted sampler may need to be restored later to its original reference method configuration (such as for a specific application requiring a reference method) by re-installation of the WINS impactor (or PM10 extender tube), the new equivalent method label may be installed on the sampler without removing the original reference method label, such that the sampler bears both labels. (Alternatively, the new label may describe multiple configurations.) In this situation, the sampler shall be clearly and conspicuously marked by the operator to indicate its current configuration (i.e. WINS/PM2.5 reference method, VSCC™/PM2.5 equivalent method, or PM10 reference method) so that the monitoring method is correctly identified and the correct method code is used when reporting monitoring data obtained with the sampler.

Part 53 requires that sellers of designated reference or equivalent method analyzers or samplers comply with certain conditions. These conditions are specified in 40 CFR 53.9 and are summarized below:

(a) A copy of the approved operation or instruction manual must accompany the sampler or analyzer when it is delivered to the ultimate purchaser.

(b) The sampler or analyzer must not generate any unreasonable hazard to operators or to the environment.

(c) The sampler or analyzer must function within the limits of the applicable performance specifications given in 40 CFR parts 50 and 53 for at least one year after delivery when maintained and operated in accordance with the operation or instruction manual.

(d) Any sampler or analyzer offered for sale as part of a reference or equivalent method must bear a label or sticker indicating that it has been designated by the EPA as part of a reference or equivalent method in accordance with part 53 and showing its designated method identification number.

(e) If such an analyzer has two or more selectable ranges, the label or sticker must be placed in close proximity to the range selector and indicate which range or ranges have been included in the reference or equivalent method designation.

(f) An applicant who offers samplers or analyzers for sale as part of a reference or equivalent method is required to maintain a list of ultimate purchasers of such samplers or analyzers and to notify them within 30 days if a reference or equivalent method designation applicable to the method has been canceled or if adjustment of the sampler or analyzer is necessary under 40 CFR 53.11(b) to avoid a cancellation.

(g) An applicant who modifies a sampler or analyzer previously designated as part of a reference or equivalent method is not permitted to sell the sampler or analyzer (as modified) as part of a reference or equivalent method (although it may be sold without such representation), nor to attach a designation label or sticker to the sampler or analyzer (as modified) under the provisions described above, until the applicant has received notice under 40 CFR 53.14(c) that the original designation or a new designation applies to the method as modified, or until the applicant has applied for and received notice under 40 CFR 53.8(b) of a new reference or equivalent method determination for the sampler or analyzer as modified.

(h) An applicant who offers PM2.5 samplers for sale as part of a reference or equivalent method is required to maintain the manufacturing facility in which the sampler is manufactured as an ISO 9001-certified facility.

(i) An applicant who offers PM2.5 samplers for sale as part of a reference or equivalent method is required to submit annually a properly completed Product Manufacturing Checklist, as specified in part 53.

Aside from occasional breakdowns or malfunctions, consistent or repeated noncompliance with any of these conditions should be reported to: Director, Human Exposure and Atmospheric Sciences Division (MD-E205-01), National Exposure Research Laboratory, U.S. Environmental Protection Agency, Research Triangle Park, North Carolina 27711.

Designation of these new reference and equivalent methods is intended to assist the States in establishing and operating their air quality surveillance systems under 40 CFR part 58. Questions concerning the commercial availability or technical aspects of any of these methods should be directed to the appropriate applicant.

Jewel F. Morris,
Acting Director, National Exposure Research Laboratory.

[FR Doc. 04-18028 Filed 8-5-04; 8:45 am]

BILLING CODE 6560-50-P